DEPARTMENT OF TRANSPORTATION

Federal Aviation Administration

14 CFR Part 39

[Docket No. FAA-2024-0759; Project Identifier AD-2023-01040-T; Amendment 39-22857; AD 2024-19-15]

RIN 2120-AA64

Airworthiness Directives; Safran Aerosystems (Formerly AVOX Systems Inc.; Scott Aviation) Oxygen Cylinder and Valve Assemblies, and Oxygen Valve Assemblies

AGENCY: Federal Aviation Administration (FAA), DOT.

ACTION: Final rule; correction.

SUMMARY: The FAA is correcting an airworthiness directive (AD) that was published in the Federal Register. That AD applies to certain Safran Aerosystems oxygen cylinder and valve assemblies, and oxygen valve assemblies, installed on but not limited to various transport airplanes. As published, the AD number of the AD being removed in the amendatory language of AD 2024-19-15 is incorrect, and the manufacturer name in the applicability and material required to be followed for identification of affected serial numbers in one location contains a typographical error. This document corrects those errors. In all other respects, the original document remains the same.

DATES: This correction is effective November 26, 2024. The effective date of AD 2024-19-15 remains November 26, 2024.

The Director of the Federal Register approved the incorporation by reference of certain publications listed in this AD as of November 26, 2024 (89 FR 84267, October 22, 2024).

The Director of the Federal Register approved the incorporation by reference of certain other publications listed in this AD as of September 5, 2023 (88 FR 50011, August 1, 2023).

ADDRESSES:

AD Docket: You may examine the AD docket at regulations.gov by searching for and locating Docket No. FAA-2024-0759; or in person at Docket Operations between 9 a.m. and 5 p.m., Monday through Friday, except Federal holidays. The AD docket contains this final rule; correction, any comments received, and other information. The street address for Docket Operations is U.S. Department of Transportation, Docket Operations, M-30, West Building Ground Floor, Room W12-140, 1200 New Jersey Avenue SE, Washington, DC 20590.

Material Incorporated by Reference:

• For AVOX and Safran Aerosystems material identified in this AD, contact AVOX Systems Inc., 225 Erie Street, Lancaster, NY 14086; telephone 716-683-5100; website safranaerosystems.com.

• You may view this material at the FAA, Airworthiness Products Section, Operational Safety Branch, 2200 South 216th St., Des Moines, WA. For information on the availability of this material at the FAA, call 206-231-3195. It is also available at regulations.gov under Docket No. FAA-2024-0759.

FOR FURTHER INFORMATION CONTACT: Gabriel Kim, Aviation Safety Engineer, FAA, 1600 Stewart Avenue, Suite 410, Westbury, NY 11590; telephone 516-228-7300; email 9-avs-nyaco-cos@faa.gov.

SUPPLEMENTARY INFORMATION:

Background

AD 2024-19-15, Amendment 39-22857 (89 FR 84267, October 22, 2024) (AD 2024-19-15), requires inspecting the oxygen valve assemblies, and oxygen cylinder and valve assemblies, to determine the serial number of the valve, cylinder, and entire assembly; inspecting certain assemblies and parts for correct spacing of the gap between the bottom of the packing retainer and top of the valve body on the assemblies, and replacing assemblies having unacceptable gaps; limits the installation of affected parts; and requires reporting inspection results and returning certain assemblies to the manufacturer. This AD applies to certain Safran Aerosystems oxygen cylinder and valve assemblies, and oxygen valve assemblies, installed on but not limited to various transport airplanes.

Need for Correction

As published, the AD number of the AD being removed in the amendatory language of AD 2024-19-15 is incorrect. Paragraph 2.a. of the amendatory language refers to “AD 2013-13-11.” The correct AD reference is “AD 2023-13-11.”

Also as published, the manufacturer name in the introductory text of paragraph (c) in the regulatory text of AD 2024-19-15 contains a typographical error. The correct manufacturer name is “Safran Aerosystems.”

Also as published, the manufacturer name in the material identified in the text of paragraph (l)(1) in the regulatory text of AD 2024-19-15 contains a typographical error. The correct manufacturer name is “Safran Aerosystems.”

Material Incorporated by Reference Under 1 CFR Part 51

The FAA reviewed the following material. This material specifies procedures for an inspection to determine the serial numbers of the oxygen cylinder and valve assemblies, and the oxygen valve assemblies, a detailed inspection for correct spacing of the gap between the bottom of the packing retainer and top of the valve body on the assemblies, parts marking, inspection report, and return of parts to the manufacturer. These documents are distinct since they apply to different assembly part numbers.

• Safran Aerosystems Alert Service Bulletin 10015804-35-01, Revision 04, dated November 9, 2023.

• Safran Aerosystems Alert Service Bulletin 10015804-35-02, Revision 06, dated August 30, 2023.

• Safran Aerosystems Alert Service Bulletin 10015804-35-03, Revision 05, dated September 29, 2023.

This AD also requires the following material, which the Director of the Federal Register approved for incorporation by reference as of September 5, 2023 (88 FR 50011, August 1, 2023).

• AVOX Systems Inc. Alert Service Bulletin 10015804-35-01, Revision 03, dated June 7, 2021.

• AVOX Systems Inc. Alert Service Bulletin 10015804-35-02, Revision 03, dated March 11, 2022.

• AVOX Systems Inc. Alert Service Bulletin 10015804-35-03, Revision 03, dated June 18, 2021.

This material is reasonably available because the interested parties have access to it through their normal course of business or by the means identified in the ADDRESSES section.

Correction of Publication

This document corrects three errors and correctly adds the AD as an amendment to 14 CFR 39.13. Although no other part of the preamble or regulatory information has been corrected, the FAA is publishing the entire rule in the Federal Register.

The effective date of this AD remains November 26, 2024.

Since this action only corrects an incorrect AD number and two typographical errors, it has no adverse economic impact and imposes no additional burden on any person. Therefore, the FAA has determined that notice and public comment procedures are unnecessary.

List of Subjects in 14 CFR Part 39

Air transportation, Aircraft, Aviation safety, Incorporation by reference, Safety.

Adoption of the Amendment

Accordingly, pursuant to the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. The FAA amends § 39.13 by:

a. Removing Airworthiness Directive (AD) 2023-13-11, Amendment 39-22496 (88 FR 50011, August 1, 2023); and

b. Adding the following new AD:

2024-19-15 Safran Aerosystems (formerly AVOX Systems Inc.; Scott Aviation): Amendment 39-22857; Docket No. FAA-2024-0759; Project Identifier AD-2023-01040-T.

(a) Effective Date

This airworthiness directive (AD) is effective November 26, 2024.

(b) Affected ADs

This AD replaces AD 2023-13-11, Amendment 39-22496 (88 FR 50011, August 1, 2023) (AD 2023-13-11).

(c) Applicability

This AD applies to Safran Aerosystems (formerly AVOX Systems Inc.; Scott Aviation) oxygen cylinder and valve assemblies having part number (P/N) 89794050, 89794077, 89794015, 891511-14, 806835-01, 807982-01, 808433-01, or 891311-14; and oxygen valve assemblies (body and gage assemblies) having P/N 807206-01. These assemblies might be installed on, but not limited to, the aircraft identified in paragraphs (c)(1) through (12) of this AD, certificated in any category.

(1) Airbus SAS Model A300 B2-1A, B2-1C, B2K-3C, B2-203, B4-2C, B4-103, and B4-203 airplanes.

(2) Airbus SAS Model A300 B4-601, B4-603, B4-620, B4-622, B4-605R, B4-622R, F4-605R, F4-622R, and C4-605R Variant F airplanes.

(3) Airbus SAS Model A310-203, -204, -221, -222, -304, -322, -324, and -325 airplanes.

(4) Airbus SAS Model A318-111, -112, -121, and -122 airplanes.

(5) Airbus SAS Model A319-111, -112, -113, -114, -115, -131, -132, -133, and -151N airplanes.

(6) Airbus SAS Model A320-211, -212, -214, -216, -231, -232, -233, -251N, -252N, -253N, -271N, -272N, and -273N airplanes.

(7) Airbus SAS Model A321-111, -112, -131, -211, -212, -213, -231, -232, -251N, -252N, -253N, -271N, -272N, -251NX, -252NX, -253NX, -271NX, and -272NX airplanes.

(8) Airbus SAS Model A330-201, -202, -203, -223, -243, -301, -302, -303, -321, -322, -323, -341, -342, -343, and -941 airplanes.

(9) Airbus Model A340-211, -212, -213, -311, -312, -313, -541, and -642 airplanes.

(10) ATR-GIE Avions de Transport Régional Model ATR42-200, -300, -320, and -500 airplanes.

(11) ATR-GIE Avions de Transport Régional Model ATR72-101, -102, -201, -202, -211, -212, and -212A airplanes.

(12) The Boeing Company Model 747-8 series airplanes.

(d) Subject

Air Transport Association (ATA) of America Code 35, Oxygen.

(e) Unsafe Condition

This AD was prompted by reports of cylinder and valve assemblies having oxygen leakage from the valve assembly vent hole, caused by the absence of a guide that maintains appropriate spacing between certain parts, and by the manufacturer identifying additional assemblies and parts affected by the unsafe condition. The FAA is issuing this AD to address oxygen leakage from cylinder and valve assemblies. The unsafe condition, if not addressed, could result in decreased or insufficient oxygen supply during a depressurization event; and heating or flow friction, which could cause an ignition event in the valve assembly.

(f) Compliance

Comply with this AD within the compliance times specified, unless already done.

(g) Retained Definition of Detailed Inspection, With No Changes

This paragraph restates the requirements of paragraph (g) of AD 2023-13-11, with no changes. For the purposes of this AD, a detailed inspection is an intensive examination of a specific item, installation, or assembly to detect damage, failure, or irregularity. Available lighting is normally supplemented with a direct source of good lighting at an intensity deemed appropriate. Inspection aids such as mirror, magnifying lenses, etc., may be necessary. Surface cleaning and elaborate procedures may be required.

(h) Retained Identification of Affected Cylinder and Valve Assemblies, With Updated Language

This paragraph restates the requirements of paragraph (h) of AD 2023-13-11, with updated language. Within 60 days after September 5, 2023 (the effective date of AD 2023-13-11), inspect the oxygen valve assemblies, and oxygen cylinder and valve assemblies, to determine if the serial numbers of the valve, cylinder, and entire assembly, are listed in Appendix 1 or Appendix 2, “Affected Shipments,” of the applicable material identified in paragraphs (h)(1) through (3) of this AD. A review of airplane maintenance records is acceptable in lieu of this inspection if the serial numbers can be conclusively determined from that review.

(1) AVOX Systems Inc. Alert Service Bulletin 10015804-35-01, Revision 03, dated June 7, 2021.

(2) AVOX Systems Inc. Alert Service Bulletin 10015804-35-02, Revision 03, dated March 11, 2022.

(3) AVOX Systems Inc. Alert Service Bulletin 10015804-35-03, Revision 03, dated June 18, 2021.

(i) Retained Inspection of the Gap, Parts Marking Actions, and Replacement, With Updated Language

This paragraph restates the requirements of paragraph (i) of AD 2023-13-11, with updated language. If, during any inspection or records review required by paragraph (h) of this AD, any oxygen valve assembly, valve or cylinder of an oxygen cylinder and valve assembly, or oxygen cylinder and valve assembly having an affected serial number is found: Before further flight, do a detailed inspection for correct spacing of the gap between the bottom of the packing retainer and top of the valve body, in accordance with paragraph 3.C. of the Accomplishment Instructions of the applicable material identified in paragraphs (h)(1) through (3) of this AD.

(1) If the gap is found to be acceptable, as defined in the applicable material identified in paragraphs (h)(1) through (3) of this AD, before further flight, do the parts marking actions in accordance with paragraph 3.D.(1) of the Accomplishment Instructions of the applicable material identified in paragraphs (h)(1) through (3) of this AD.

(2) If the gap is found to be unacceptable, as defined in the material identified in paragraphs (h)(1) through (3) of this AD, before further flight, remove the affected assembly, in accordance with paragraphs 3.D.(2) or 3.D.(3), as applicable, of the Accomplishment Instructions of the applicable material identified in paragraphs (h)(1) through (3) of this AD; and replace with a serviceable assembly.

(j) Retained Return of Parts, With Updated Language

This paragraph restates the requirement to return parts, as specified in paragraph (j)(2) of AD 2023-13-11, with updated language. If, during the inspection required by paragraph (i) of this AD, any gap is found to be unacceptable, within the applicable time specified in paragraph (j)(1) or (2) of this AD, return the assembly to the manufacturer in accordance with paragraph 3.D.(2) or 3.D.(3), as applicable, of the Accomplishment Instructions of the applicable material identified in paragraphs (h)(1) through (3) of this AD, except you are not required to contact AVOX Systems Inc. for shipping instructions.

(1) If the inspection was done on or after September 5, 2023 (the effective date of AD 2023-13-11): Return the assembly within 30 days after the inspection.

(2) If the inspection was done before September 5, 2023 (the effective date of AD 2023-13-11): Return the assembly within 30 days after September 5, 2023.

(k) Retained Parts Installation Limitation, With Updated Language

This paragraph restates the provisions of paragraph (k) of AD 2023-13-11, with updated language. As of September 5, 2023 (the effective date of AD 2023-13-11), no AVOX Systems Inc. oxygen valve assembly, or valve or cylinder that is part of an oxygen cylinder and valve assembly, or oxygen cylinder and valve assembly having an affected serial number identified in Appendix 1, “Affected Shipments,” or Appendix 2, “Affected Shipments,” of any AVOX Systems Inc. material identified in paragraphs (h)(1) through (3) of this AD may be installed on any airplane unless the requirements of paragraph (i) of this AD have been accomplished on that affected assembly.

(l) New Identification of Additional Affected Cylinder and Valve Assemblies

Within 60 days after the effective date of this AD, inspect the oxygen valve assemblies, and oxygen cylinder and valve assemblies, to determine if the serial numbers of the valve, cylinder, and entire assembly, are listed in Appendix 3, “Affected Shipments,” of the applicable material identified in paragraphs (l)(1) through (3) of this AD. A review of airplane maintenance records is acceptable in lieu of this inspection if the serial numbers can be conclusively determined from that review.

(1) Safran Aerosystems Alert Service Bulletin 10015804-35-01, Revision 04, dated November 9, 2023, except as specified in paragraphs (l)(1)(i) and (ii).

(i) In rows 2 through 492 of table tab “89794077” in Appendix 3 of Safran Aerosystems Alert Service Bulletin 10015804-35-01, Revision 04, dated November 9, 2023, the list of numbers in the “Valve Serial #” and “Cylinder Serial #” columns have been transposed with each other and the list of numbers in the “Valve Part #” and “Cylinder Part #” columns have also been transposed with each other.

(ii) In rows 2 through 65 of table tab 891511-14 in Appendix 3 of Safran Aerosystems Alert Service Bulletin 10015804-35-01, Revision 04, dated November 9, 2023, the list of numbers in the “Valve Serial #” and “Cylinder Serial #” columns have been transposed with each other, and the list of numbers in the “Valve Part #” and “Cylinder Part #” columns have been transposed with each other.

(2) Safran Aerosystems Alert Service Bulletin 10015804-35-02, Revision 06, dated August 30, 2023.

(3) Safran Aerosystems Inc. Alert Service Bulletin 10015804-35-03, Revision 05, dated September 29, 2023.

(m) New Inspection of the Gap, Parts Marking Actions, and Replacement for Additional Parts

If, during any inspection or records review required by paragraph (l) of this AD, any oxygen valve assembly, valve or cylinder of an oxygen cylinder and valve assembly, or oxygen cylinder and valve assembly having an affected serial number is found: Before further flight, do a detailed inspection for correct spacing of the gap between the bottom of the packing retainer and top of the valve body, in accordance with paragraph 3.C. of the Accomplishment Instructions of the applicable material identified in paragraphs (l)(1) through (3) of this AD.

(1) If the gap is found to be acceptable, as defined in the applicable material identified in paragraphs (l)(1) through (3) of this AD, before further flight, do the parts marking actions in accordance with paragraph 3.D.(1) of the Accomplishment Instructions of the applicable material identified in paragraphs (l)(1) through (3) of this AD.

(2) If the gap is found to be unacceptable, as defined in the material identified in paragraphs (l)(1) through (3) of this AD, before further flight, remove the affected assembly, in accordance with paragraphs 3.D.(2) or 3.D.(3), as applicable, of the Accomplishment Instructions of the applicable material identified in paragraphs (l)(1) through (3) of this AD; and replace with a serviceable assembly.

(n) New Return of Additional Parts

If, during the inspection required by paragraph (m) of this AD, any gap is found to be unacceptable, within the applicable time specified in paragraph (n)(1) or (2) of this AD, return the assembly to the manufacturer in accordance with paragraph 3.D.(2) or 3.D.(3), as applicable, of the Accomplishment Instructions of the applicable material identified in paragraphs (l)(1) through (3) of this AD, except you are not required to contact Safran Aerosystems for shipping instructions.

(1) If the inspection was done on or after the effective date of this AD: Return the assembly within 30 days after the inspection.

(2) If the inspection was done before the effective date of this AD: Return the assembly within 30 days after the effective date of this AD.

(o) New Parts Installation Limitation

As of the effective date of this AD, no AVOX Systems Inc. or Safran Aerosystems oxygen valve assembly, or valve or cylinder that is part of an oxygen cylinder and valve assembly, or oxygen cylinder and valve assembly having an affected serial number identified in Appendix 3, “Affected Shipments,” of any Safran Aerosystems Inc. material identified in paragraphs (l)(1) through (3) of this AD may be installed on any airplane unless the requirements of paragraph (m) of this AD have been accomplished on that affected assembly.

(p) Credit for Previous Actions

(1) This paragraph provides credit for the actions specified in paragraphs (h) or (i) of this AD, if those actions were performed before September 5, 2023 (the effective date of AD 2023-13-11), using the material specified in paragraphs (p)(1)(i) through (iii) of this AD. This material is not incorporated by reference in this AD.

(i) AVOX Systems Inc. Service Bulletin 10015804-35-01, dated March 6, 2019; and AVOX Systems Inc. Alert Service Bulletin 10015804-35-01, Revision 01, dated July 9, 2019.

(ii) AVOX Systems Inc. Alert Service Bulletin 10015804-35-02, Revision 1, dated September 4, 2019.

(iii) AVOX Systems Inc. Service Bulletin 10015804-35-03, dated April 11, 2019; and AVOX Systems Inc. Alert Service Bulletin 10015804-35-03, Revision 01, dated May 21, 2019.

(2) This paragraph provides credit for the actions specified in paragraphs (h) or (i) of this AD, if those actions were performed before September 5, 2023 (the effective date of AD 2023-13-11), using the material specified in paragraphs (p)(2)(i) through (iii) of this AD, which was incorporated by reference in AD 2022-04-09.

(i) AVOX Systems Inc. Alert Service Bulletin 10015804-35-01, Revision 02, dated October 16, 2019.

(ii) AVOX Systems Inc. Alert Service Bulletin 10015804-35-02, Revision 2, dated October 31, 2019.

(iii) AVOX Systems Inc. Alert Service Bulletin 10015804-35-03, Revision 02, dated October 15, 2019.

(3) This paragraph provides credit for the actions specified in paragraphs (h), (i), (l), or (m) of this AD, if those actions were performed before the effective date of this AD, using the material specified in paragraphs (p)(3)(i) through (ii) of this AD. This material is not incorporated by reference in this AD.

(i) AVOX Systems Inc. Alert Service Bulletin 10015804-35-02, Revision 04, dated June 30, 2023; or Revision 05, dated August 14, 2023.

(ii) AVOX Systems Inc. Alert Service Bulletin 10015804-35-03, Revision 04, dated June 12, 2023.

(q) Alternative Methods of Compliance (AMOCs)

(1) The Manager, East Certification Branch, FAA, has the authority to approve AMOCs for this AD, if requested using the procedures found in 14 CFR 39.19. In accordance with 14 CFR 39.19, send your request to your principal inspector or responsible Flight Standards Office, as appropriate. If sending information directly to the manager of the East Certification Branch, send it to ATTN: Program Manager, Continuing Operational Safety, at the address identified in paragraph (r) of this AD or email to: AMOC@faa.gov.

(2) Before using any approved AMOC, notify your appropriate principal inspector, or lacking a principal inspector, the manager of the responsible Flight Standards Office.

(3) AMOCs approved for AD 2023-13-11 are approved as AMOCs for the corresponding provisions of this AD.

(r) Related Information

(1) For more information about this AD, contact Gabriel Kim, Aviation Safety Engineer, FAA, 1600 Stewart Avenue, Suite 410, Westbury, NY 11590; telephone 516-228-7300; email 9-avs-nyaco-cos@faa.gov.

(2) Material identified in this AD that is not incorporated by reference is available at the address specified in paragraph (s)(5) of this AD.

(s) Material Incorporated by Reference

(1) The Director of the Federal Register approved the incorporation by reference (IBR) of the material listed in this paragraph under 5 U.S.C. 552(a) and 1 CFR part 51.

(2) You must use this material as applicable to do the actions required by this AD, unless this AD specifies otherwise.

(3) The following material was approved for IBR on November 26, 2024 (89 FR 84267, October 22, 2024).

(i) Safran Aerosystems Alert Service Bulletin 10015804-35-01, Revision 04, dated November 9, 2023.

(ii) Safran Aerosystems Alert Service Bulletin 10015804-35-02, Revision 06, dated August 30, 2023.

(iii) Safran Aerosystems Alert Service Bulletin 10015804-35-03, Revision 05, dated September 29, 2023.

(4) The following material was approved for IBR on September 5, 2023 (88 FR 50011, August 1, 2023).

(i) AVOX Systems Inc. Alert Service Bulletin 10015804-35-01, Revision 03, dated June 7, 2021.

(ii) AVOX Systems Inc. Alert Service Bulletin 10015804-35-02, Revision 03, dated March 11, 2022.

(iii) AVOX Systems Inc. Alert Service Bulletin 10015804-35-03, Revision 03, dated June 18, 2021.

(5) For material identified in this AD, contact AVOX Systems Inc., 225 Erie Street, Lancaster, NY 14086; telephone 716-683-5100; website safranaerosystems.com.

(6) You may view this material at the FAA, Airworthiness Products Section, Operational Safety Branch, 2200 South 216th St., Des Moines, WA. For information on the availability of this material at the FAA, call 206-231-3195.

(7) You may view this material at the National Archives and Records Administration (NARA). For information on the availability of this material at NARA, visit www.archives.gov/federal-register/cfr/ibr-locationsoremailfr.inspection@nara.gov.

Issued on October 30, 2024.
Victor Wicklund,
Deputy Director, Compliance & Airworthiness Division, Aircraft Certification Service.

[FR Doc. 2024-25784 Filed 11-6-24; 8:45 am]

BILLING CODE 4910-13-P